DEPARTMENT OF ENERGY

Federal Energy Regulatory Commission

[Docket No. RP00-277-001]

Canyon Creek Compression Company; Notice of Compliance Filing

June 29, 2000.

Take notice that on June 19, 2000, Canyon Creek Compression Company (Canyon Creek) filed to comply with the Director letter order issued on June 6, 2000, in Docket No. RP00-277-000, which required Canyon Creek to provide a corrected electronic version of Third Revised Sheet No. 137 to FERC Gas Tariff, Third Revised Volume No. 1. Canyon Creek previously submitted an updated Third Revised Sheet No. 137 in hard copy form but inadvertently did not update the electronic copy of Third Revised Sheet No. 137.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17000 Filed 7-5-00; 8:45 am]

BILLING CODE 6717-01-M